DEPARTMENT OF COMMERCE

National Oceanic and Atmospheric Administration

Agency Information Collection Activities; Submission to the Office of Management and Budget (OMB) for Review and Approval; Comment Request; Economic Surveys of Specific U.S. Commercial Fisheries

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 28, 2021 during a 60-day comment period. This notice allows for an additional 30 days for public comments.

Agency: National Oceanic & Atmospheric Administration (NOAA), Commerce.

Title: Economic Surveys of Specific US Commercial Fisheries.

OMB Control Number: 0648-0773.

Form Number(s): None.

Type of Request: Regular submission [revision of a currently approved collection].

Number of Respondents: 1,655.

Average Hours per Response:

NWFSC: West Coast Limited Entry Groundfish Fixed Gear Fisheries Economic Data Collection: 3 hours.

NWFSC: West Coast Open Access Groundfish, Non-tribal Salmon, Crab, and Shrimp Fisheries Economic Data Collection: 3 hours.

PIFSC: American Samoa Longline Fishery Economic Data Collection: 1 hour.

PIFSC: Hawaii Pelagic Longline Fishery Economic Data Collection: 1 hour.

PIFSC: Hawaii Small Boat Fishery Economic Data Collection: 45 minutes.

PIFSC: American Samoa Small Boat Fishery Economic Data Collection: 45 minutes.

PIFSC: American Samoa, Guam, and The Commonwealth of The Northern Mariana Islands Small Boat-Based Fisheries Economic Data Collection (an add-on to a creel survey): 10 minutes.

PIFSC: Mariana Archipelago Small Boat Fleet Economic Data Collection: 45 minutes.

SEFSC: USVI F Small-Scale Commercial Fisheries Economic Data Collection: 15 minutes.

SEFSC: Puerto Rico Small-Scale Commercial Fisheries Economic Data Collection: 1 hour.

SEFSC: Gulf of Mexico Inshore Shrimp Fishery Economic Data Collection: 28 minutes.

SEFSC: U.S. South Atlantic Region Golden Crab Fishery Economic Data Collection: 30 minutes.

SWFSC: West Coast Coastal Pelagic Fishery Economic Data Collection: 3 hours.

SWFSC: West Coast Swordfish Fishery Economic Data Collection: 30 minutes.

SWFSC: West Coast North Pacific Albacore Fishery Economic Data Collection: 1 hour.

NEFSC: Northeast Commercial Fishing Business Economic Data Collection: 1 hour.

Total Annual Burden Hours: 1,757.

Needs and Uses: This request is for a revision and extension of a currently approved collection.

The Office of Science and Technology is sponsoring the collection. Economic surveys will be conducted in selected commercial fisheries for the East Coast, Gulf of Mexico, Caribbean, West Coast, Hawaii, and the U.S. Pacific Islands territories.

The requested information will include different components of operating costs/expenditures, earnings, employment, ownership, vessel characteristics, effort/gear descriptors, employment, and demographic information for the various types of fishing vessels operating in the 16 U.S. commercial fisheries or groups of fisheries listed below.

1. West Coast Limited Entry Groundfish Fixed Gear Fisheries

2. West Coast Open Access Groundfish, Non-tribal Salmon, Crab, and Shrimp Fisheries

3. American Samoa Longline Fishery

4. Hawaii Pelagic Longline Fishery

5. Hawaii Small Boat Fishery

6. American Samoa Small Boat Fishery

7. American Samoa, Guam, and The Commonwealth of The Northern Mariana Islands Small Boat-Based Fisheries

8. Mariana Archipelago Small Boat Fleet

9. USVI F Small-Scale Commercial Fisheries

10. Puerto Rico Small-Scale Commercial Fisheries

11. Gulf of Mexico Inshore Shrimp Fishery

12. U.S. South Atlantic Region Golden Crab Fishery

13. West Coast Coastal Pelagic Fishery

14. West Coast Swordfish Fishery

15. West Coast North Pacific Albacore Fishery

16. Northeast and Mid-Atlantic Fisheries

A variety of laws, Executive Orders (EOs), and NOAA Fisheries strategies and policies include requirements for economic data and the analyses they support. When met adequately, those requirements allow better-informed conservation and management decisions on the use of living marine resources and marine habitat in federally managed fisheries. Obtaining these data improves the ability of NOAA Fisheries and the Regional Fishery Management Councils (Councils) to monitor, explain and predict changes in the economic performance and impacts of federally managed commercial fisheries. Measures of economic performance include costs, earnings, and profitability (net revenue); productivity and economic efficiency; capacity; economic stability; the level and distribution of net economic benefits to society; and market power. The economic impacts include sector, community or region-specific, and national employment, sales, value-added, and income impacts. Economic data are required to support more than a cursory effort to comply with or support the following laws, EOs, and NOAA Fisheries strategies and policies:

1. The Magnuson-Stevens Fishery Conservation and Management Act (MSA)

2. The Marine Mammal Protection Act (MMPA)

3. The Endangered Species Act (ESA)

4. The National Environmental Policy Act (NEPA)

5. The Regulatory Flexibility Act (RFA)

6. E.O. 12866 (Regulatory Planning and Review)

7. E.O. 13771 (Reducing Regulation and Controlling Regulatory Costs)

8. E.O. 12898 (Federal Actions to Address Environmental Justice in Minority Populations and Low-Income Populations)

9. E.O. 13840 (Ocean Policy to Advance the Economic, Security, and Environmental Interests of the United States)

10. The NOAA Fisheries Guidelines for Economic Reviews of Regulatory Actions

11. The NOAA Fisheries Strategic Plan 2019-2022 (Strategic Plan)

12. The NOAA Fisheries Ecosystem-Based Fishery Management (EBFM) Road Map

13. The NOAA Fisheries National Bycatch Reduction Strategy

14. NOAA's Catch Share Policy

Data collections will focus each year on a different set of the 16 commercial fisheries or groups of fisheries. This cycle of data collection will facilitate economic data being available and updated for all those commercial fisheries.

There will be an effort to coordinate the data collections in order to reduce the additional burden for those who participate in multiple fisheries. To further reduce the burden, the requested information for a specific fishery will be limited to that which is not available from other sources. Participation in these data collections will be voluntary.

The proposed revisions to the information collection will: (a) Add an information collection for Northeast and Mid-Atlantic fisheries; (b) increase the burden hours to account for that addition information collection: (c) make minor changes to the survey forms that primarily provide flexibility with respect to when NMFS will conduct each of the 16 information collections; and (d) extend it for three years. Though the information collection was recently renewed, an extension is requested at this time as no additional changes to the collection are anticipated before the current expiration date.

Affected Public: Individuals or households and business or other for-profit organizations.

Frequency: Every 3 to 8 years.

Respondent's Obligation: Voluntary.

Legal Authority: Magnuson-Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0773.

Sheleen Dumas,
Department PRA Clearance Officer, Office of the Chief Information Officer, Commerce Department.

[FR Doc. 2022-04849 Filed 3-7-22; 8:45 am]

BILLING CODE 3510-22-P